POSTAL SERVICE

39 CFR Part 6

Amendment to Bylaws of the Board of Governors

AGENCY: Postal Service.

ACTION: Final rule.

SUMMARY: On March 31, 2003, the Board of Governors of the United States Postal Service adopted a revision to its bylaws. The purpose of this revision was to provide that the Board may, by a recorded vote, vary the time or place of a regular or annual meeting. This final rule incorporates the change which the Board adopted.

EFFECTIVE DATE: March 31, 2003.

FOR FURTHER INFORMATION CONTACT: William T. Johnstone, (202) 268-4800.

SUPPLEMENTARY INFORMATION: This document publishes a revision. The change revises 39 CFR 6.1 of the Bylaws of the Board of Governors of the United States Postal Service. The change was adopted by the Board on March 31, 2003.

The change now requires that consistent with the provisions of § 7.5 of the bylaws, the time or place of a regular or annual meeting may be varied by a recorded vote. Previously, the bylaws required a unanimous vote to vary the time or place of a regular or annual meeting.

List of Subjects in 39 CFR Part 6

Administrative practice and procedure, Organization and functions (government agencies), Postal Service.

Accordingly, § 6.1 of title 39 CFR is amended to read as follows:

PART 6—MEETING (ARTICLE VI)

1. The authority citation for Part 6 continues to read as follows:

Authority: 39 U.S.C. 202, 205, 401(2), (10), 1003, 3013; 5 U.S.C. 552b(e), (g).

2. Section 6.1 is revised to read as follows:

§ 6.1 Regular meetings, annual meeting.

The Board shall meet regularly each month and shall meet normally on the first Monday and Tuesday of each month. The first regular meeting of each calendar year is designated as the annual meeting. Consistent with the provisions of § 7.5 of these bylaws, the time or place of a regular or annual meeting may be varied by recorded vote, with the earliest practicable notice to the Secretary. The Secretary shall distribute to the members an agenda setting forth the proposed subject matter for any regular or annual meeting in advance of the meeting.

Stanley F. Mires,
Chief Counsel, Legislative.

[FR Doc. 03-13098 Filed 5-23-03; 8:45 am]

BILLING CODE 7710-12-P